DEPARTMENT OF DEFENSE

Department of the Navy

Notice of Availability and Notice of Public Meetings for the Draft Environmental Impact Statement for Land-Water Interface and Service Pier Extension, Naval Base Kitsap Bangor, Silverdale, WA

AGENCY: Department of the Navy, DoD.

ACTION: Notice.

SUMMARY: Pursuant to section 102(2)(c) of the National Environmental Policy Act (NEPA) and the Council on Environmental Quality regulations for implementing the procedural provisions of NEPA (40 CFR parts 1500 through 1508), the Department of the Navy (Navy) has prepared and filed with the U.S. Environmental Protection Agency a Draft Environmental Impact Statement (EIS) for Land-Water Interface (LWI) and Service Pier Extension (SPE) on Naval Base Kitsap Bangor, Silverdale, WA. The Draft EIS evaluates the potential environmental effects of two proposed actions: (1) The proposed construction and operation of LWI structures and (2) the proposed construction and operation of a SPE and associated support facilities, both on Naval Base Kitsap Bangor.

With the filing of the Draft EIS, the Navy is initiating a 60-day public comment period and has scheduled two public meetings to provide information and receive comments on the Draft EIS. This notice announces the dates and locations of the public meetings and provides information about the environmental planning effort.

DATES: Dates and Addresses: Public meetings will be held from 5:00 p.m. to 8:00 p.m., with a presentation at 6:30 p.m. on the following dates and locations: March 3, 2015, at the Chimacum High School Commons, 91 West Valley Road, Chimacum, WA 98325; March 4, 2015, at the North Kitsap High School Commons, 1780 NE Hostmark Street, Poulsbo, WA 98370.

The 60-day public review and comment period for the Draft EIS is from February 13, 2015 through April 13, 2015. The Navy will hold two public meetings to inform the public about the proposed actions and potential environmental impacts, and to provide an opportunity for the public to comment on the adequacy and accuracy of the environmental analysis. The public meetings will include an open house information session, followed by a presentation by the Navy, and a verbal comment session. Navy representatives will be available during the open house information sessions to clarify information related to the Draft EIS. Federal, state, and local agencies and officials, as well as interested organizations and individuals, are encouraged to provide comments in writing during the public review period or in person at one of the scheduled public meetings.

Attendees will be able to submit verbal and/or written comments during the public meetings. A court reporter will record comments from the public during the verbal comment session. In the interest of available time, and to ensure all who wish to provide a verbal statement to the court reporter have the opportunity to do so, each speaker's comments will be limited to three (3) minutes, which may be extended if meeting attendance and time permits. Equal weight will be given to verbal and written comments.

Comments may also be submitted via mail to Naval Facilities Engineering Command Northwest, 1101 Tautog Circle, Suite 203, Silverdale, WA 98315-1101, Attn: Mr. Thomas Dildine, LWI/SPE EIS Project Manager, via Email at nwnepa@navy.mil, or via the project Web site at: http://www.nbkeis.com/lwi. All comments, verbal or written, submitted during the public comment period will become part of the public record. All comments will be considered and acknowledged or responded to in the Final EIS. The Navy may address the comments directly, or the Navy may respond to public comments by modifying the analysis in the EIS as appropriate. Comments must be postmarked or received online by April 13, 2015, to ensure they are considered in the Final EIS. No decision will be made to implement any alternative until the NEPA process is complete and a Record of Decision is signed by the Navy.

FOR FURTHER INFORMATION CONTACT: Naval Facilities Engineering Command Northwest, 1101 Tautog Circle, Suite 203, Silverdale, WA 98315-1101, Attn: Mr. Thomas Dildine, LWI/SPE EIS Project Manager, Email: nwnepa@navy.mil, or project Web site: http://www.nbkeis.com/lwi.

SUPPLEMENTARY INFORMATION: A Notice of Intent to prepare the Land-Water Interface and Service Pier Extension EIS was published in the Federal Register on February 1, 2013 (78 FR 7416). Two public scoping meetings were held on the following dates and locations:

1. February 20, 2013, Chimacum High School Commons, 91 West Valley Road, Chimacum, WA 98325; and

2. February 21, 2013, North Kitsap High School Commons, 1780 Northeast Hostmark Street, Poulsbo, WA 98370.

The LWI proposed action is to complete the perimeter of the Waterfront Restricted Area at Naval Base Kitsap Bangor by constructing and operating barrier structures connecting the existing on-water Port Security Barrier system to the existing on-land Waterfront Security Enclave. The purpose of the LWI proposed action is to comply with Department of Defense directives to protect OHIO Class ballistic missile (TRIDENT) submarines from increased and evolving threats and to prevent the seizure, damage, or destruction of military assets. The LWI is needed to enhance security within the Waterfront Restricted Area and comply with security requirements. Three alternatives were carried forward for analysis: No Action (Alternative 1), Pile-Supported Pier (Alternative 2), and Port Security Barrier Modifications (Alternative 3). Alternative 3 is the preferred alternative.

The SPE proposed action is to extend and operate the existing Service Pier and construct and operate support facilities to accommodate the transfer of two SEAWOLF Class submarines from Naval Base Kitsap Bremerton to Naval Base Kitsap Bangor. The purpose of the SPE proposed action is to eliminate deployment constraints and improve maintenance of the SEAWOLF Class submarine fleet. The SPE is needed to avoid restrictions at Naval Base Kitsap Bremerton on navigating SEAWOLF Class submarines through Rich Passage under certain tidal conditions; improve long-term operational effectiveness for the three SEAWOLF Class submarines on Naval Base Kitsap; provide berthing and logistical support for SEAWOLF, LOS ANGELES, and VIRGINIA Class submarines at the Navy's submarine research, development, test, and evaluation hub, located at Naval Base Kitsap Bangor; and improve submarine crew training and readiness through co-location of SEAWOLF Class submarines with command functions on the Naval Base Kitsap Bangor submarine training center. Three alternatives were carried forward for analysis: No Action (Alternative 1), Short Pier (Alternative 2), and Long Pier (Alternative 3). Alternative 2 is the preferred alternative.

The LWI and SPE are independent actions, but are analyzed in the same EIS because their geographic proximity results in the potential for the two projects to have overlapping environmental impacts. The U.S. Army Corps of Engineers and National Marine Fisheries Service (NMFS) are cooperating agencies for this EIS.

The Navy analyzed potential impacts from the proposed actions on environmental resources, including marine water resources (hydrography, water quality, sediment quality); marine vegetation and invertebrates; plankton; fish; marine mammals; marine birds; terrestrial biological resources (vegetation and habitats; wetlands; threatened, endangered, and sensitive species; and wildlife); geology, soils, and water resources; land use and recreation; airborne acoustic environment; aesthetics and visual quality; socioeconomics; environmental justice and protection of children; cultural resources; American Indian traditional resources; traffic; and air quality.

For the LWI structures constructed under Alternative 2, impacts would include in-water pile-driving noise, including effects on fish and wildlife; turbidity; and habitat impacts. Impacts from operation and maintenance would include loss and shading of marine habitat, including eelgrass, macroalgae, and the benthic (bottom-dwelling) community, as well as potential interference with migration of some Endangered Species Act (ESA) protected juvenile salmon. LWI Alternative 2 has the potential to impact fish and bird species protected under the ESA and marine mammals protected under the ESA and the Marine Mammal Protection Act (MMPA). For the LWI structures constructed under Alternative 3, impacts would include airborne pile-driving noise, including effects on fish and wildlife, and habitat impacts. Impacts from operation and maintenance would include loss of marine habitat, including eelgrass. LWI Alternative 3 has the potential to impact fish and bird species protected under the ESA.

Upland construction for both Alternatives 2 and 3 would result in permanent and temporary vegetation disturbance, but no wetland impacts would occur. No terrestrial animals or plants protected under the ESA or Migratory Bird Treaty Act would be affected; however, bald eagles foraging along the shoreline could be disturbed during construction. Project construction would have overall positive impacts on the local economy. Tribal access to some shellfish beds would be restricted during construction and, in the long term, a small area of these beds would be lost. During construction, vessel traffic would result in more openings of the Hood Canal Bridge, causing traffic delays on State Route 104 between the Olympic and Kitsap peninsulas. Construction impacts on air and water quality would be minor and localized.

For the SPE, construction impacts would include in-water pile-driving noise and its effects on fish, wildlife, and neighboring communities; turbidity; and habitat impacts. Impacts from operation and maintenance would include loss and shading of marine habitat, but there would be minimal interference with the migration of juvenile salmon. SPE alternatives 2 and 3 could potentially impact fish and bird species protected under the ESA and marine mammals protected under the ESA and the MMPA. Upland impacts would include both permanent and temporary vegetation disturbance; however, no wetland impacts would occur. No terrestrial animals or plants protected under the ESA would be affected. Bald Eagles foraging along the shoreline could be disturbed during construction. Residential areas south of the base would experience increased noise levels during project construction. Construction would have an overall positive impact on the local economy. During construction, vessel traffic would result in more openings of the Hood Canal Bridge, causing traffic delays on State Route 104 between the Olympic and Kitsap peninsulas. Construction impacts on air and water quality would be minor and localized.

The Navy is consulting with NMFS in compliance with the MMPA permitting process regarding the potential behavioral disturbance of marine mammals associated with SPE construction. In accordance with ESA, the Navy is consulting with NMFS and the U.S. Fish and Wildlife Service on the potential impacts of construction and operation on federally listed species and critical habitat for both LWI and SPE projects. The Navy is also consulting with NMFS regarding impacts on essential fish habitat. Other permitting and consultation will also occur.

Past, present, and other reasonably foreseeable future actions are expected to result in cumulative impacts on marine habitats and species in Hood Canal. However, through the implementation of proposed compensatory aquatic mitigation actions described in the Mitigation Action Plan, the LWI and SPE contribution to cumulative impacts would not be significant. The LWI and SPE would contribute to regional cumulative impacts on nearshore terrestrial habitats. Construction of the LWI and SPE could possibly overlap with one another and construction of other waterfront structures on Naval Base Kitsap Bangor, resulting in increased pile-driving noise impacts on marine and terrestrial species. During construction, marine vessel traffic from LWI and SPE projects would increase the frequency of openings of the Hood Canal Bridge, resulting in impacts to travelers on State Route 104 between the Olympic and Kitsap peninsulas. Additionally, noise impacts on nearby residential and recreational areas would increase slightly. Construction of multiple projects may also increase traffic impacts on base roads and delays at the gates entering the base, leading to increased traffic impacts on adjacent roads. The projects would also have cumulative economic benefits.

The Draft EIS was distributed to federal, state, and local agencies, elected officials, and other interested organizations and individuals. Copies of the Draft EIS are available for public review at the following public libraries:

1. Jefferson County Library (Port Hadlock), 620 Cedar Ave., Port Hadlock, WA 98339;

2. Kitsap Regional Library (Poulsbo), 700 NE Lincoln Road, Poulsbo, WA 98370;

3. Kitsap Regional Library—Sylvan Way (Bremerton), 1301 Sylvan Way, Bremerton, WA 98310;

4. Kitsap Regional Library (Silverdale), 3450 NW Carlton St., Silverdale, WA 98383;

5. Port Townsend Public Library, 1220 Lawrence St., Port Townsend, WA 98368; and

6. Seattle Central Library, 1000 Fourth Ave., Seattle, WA 98104.

The Draft EIS is also available for electronic viewing at www.nbkeis.com/lwi. A compact disc of the Draft EIS will be made available upon written request by contacting: Naval Facilities Engineering Command Northwest, 1101 Tautog Circle, Suite 203, Silverdale, WA 98315-1101, Attn: Mr. Thomas Dildine, LWI/SPE EIS Project Manager, Email: nwnepa@navy.mil, or project Web site: http://www.nbkeis.com/lwi.

Authority: 35 U.S.C. 207, 37 CFR part 404.

Dated: February 5, 2015.
N. A. Hagerty-Ford,
Commander, Judge Advocate General's Corps, U.S. Navy, Federal Register Liaison Officer.

[FR Doc. 2015-03046 Filed 2-12-15; 8:45 am]

BILLING CODE 3810-FF-P